TENNESSEE VALLEY AUTHORITY

Meetings; Sunshine Act

Agency Holding the Meeting: Tennessee Valley Authority (Meeting No. 1536).

Time and Date: 8:30 a.m. (EST), November 30, 2001.

Place: TVA West Tower Auditorium, 400 West Summit Hill Drive, Knoxville, Tennessee.

Status: Open.

Agenda

Approval of minutes of meeting held on October 24, 2001.

New Business

A—Budget and Financing

A1. Approval of Fiscal year 2001 Financial Statements.

A2. Approval of tax-equivalent payments for Fiscal Year 2001 and estimated payments in Fiscal Year 2002 in accordance with Section 13 of the TVA Act.

B—Purchase Awards

B1. Supplement to Contract No. 999997641 with Marsh USA Inc., to provide coverage for the integrated risk insurance program.

B2. Supplements to contracts with United HealthCare of Tennessee and Cigna HealthCare of Tennessee for health maintenance organization benefit plan options.

B3. Supplement to Contract No. 99999115 with Connecticut General Life Insurance Company for dental health services.

C—Energy

C1. Contract with Guy F. Atkinson Construction, LLC, for the design and construction of a low-level outlet at the Blue Ridge Dam.

C2. Contract with General Electric International, Inc., to provide combustion turbine parts and services for TVA's new combustion turbine units located at Gallatin, Johnsonville, Lagoon Creek, and Kemper sites.

C3. Contract with ALSTOM Power, Inc., to provide large steam turbine/generator parts and services.

C4. Sale at public auction of a coal lease on the TVA Koppers property and delegation of authority to the Vice President of Fuel Supply and Engineering Services to administer and amend the lease.

C5. Proposed increases in prices under Dispersed Power Price Schedule—CSPP.

E—Real property Transaction

E1. Abandonment of an easement affecting approximately .5 acre of land on Wautauga Reservoir (a portion of Tract Nos. WAR-587F, War-592F, and WAR-594F) in Carter County, Tennessee.

Information Items

1. Winning Performance Team Incentive Plan payout.

2. Delegation of interim approval authority to the President and Chief Operating Officer, or a designee, for certain power purchase agreements for small renewable fueled generation projects.

3. Approval of the modification of contracts with Lodestar Energy, Inc., for coal supply to Johnsonville, Colbert Unit 5, the Cumberland Fossil Plants.

4. Renegotiation of Contract No. P96P06-190951 under a reopener provision with Ingram Barge Company for coal transportation services to Colbert, Cumberland, Johnsonville, and Widows Creek Fossil Plants.

5. Delegation of authority to the Manager, Watershed Technical Services, or a designee, and the Chief Financial Officer, or a designee, to grant leases concerning eight combustion turbines and related facilities located at Lagoon Creek Combustion Turbine Plant and take other actions with respect to the transfer of real property interests related to the lease arrangements.

6. Release of a restrictive covenant affecting approximately 28.3 acres of TVA land on Wheeler Reservoir in Morgan County, Alabama (Tract No. XWR-384).

7. Contract with The Buntin Group for marketing services primarily for the Energy Right® and Green Power Switch® programs.

8. Cooperative agreement with Memphis Light, Gas and Water to support low-income energy conservation demonstration in the MLGW service area.

9. Enhancements to TVA's efforts to recruit and retain employees and reward excellence in business performance and public service (“the 3Rs”).

For more information: Please call TVA Media Relations at (865) 632-6000, Knoxville, Tennessee. Information is also available at TVA's Washington Office (202) 898-2999. People who plan to attend the meeting and have special needs should call (865) 632-6000.

Dated: November 21, 2001.
Maureen H. Dunn,
General Counsel and Secretary.

[FR Doc. 01-29582 Filed 11-23-01; 12:30 pm]

BILLING CODE 8120-08-M